DEPARTMENT OF HEALTH AND HUMAN SERVICES

Health Resources and Services Administration

National Practitioner Data Bank; Announcement of Proactive Disclosure Service (PDS) Opening Date and User Fees

AGENCY: Health Resources and Services Administration, HHS.

ACTION: Notice.

SUMMARY: The Health Resources and Services Administration (HRSA), Department of Health and Human Services (HHS), is announcing the implementation of a Proactive Disclosure Service (PDS) Prototype. The PDS is being offered as an alternative to the periodic querying of the National Practitioner Data Bank (NPDB). It was developed in response to the growing interest of healthcare entities in on-going monitoring of practitioner credentials.

Authorized Data Bank entities can choose to enroll all of their practitioners in PDS or enroll some practitioners while continuing to periodically query on others using the regular query methods. The query fee for periodic queries remains $4.75 per name. Entities with PDS enrolled practitioners will be notified within one business day of the NPDB's receipt of a report on any of their enrollees. While entities can expect to receive reports sooner with PDS, the format of and the information contained in a report, as well as the information required to be reported will remain the same. Initially, the PDS is being offered as a prototype. The annual subscription fee, during the prototype period, is $3.25 per practitioner. This rate is subject to change after the prototype period is complete.

DATES: This fee will be effective April 30, 2007.

FOR FURTHER INFORMATION CONTACT: Mark Pincus, Branch Chief, Practitioner Data Banks Branch, Office of Workforce Evaluation and Quality Assurance, Bureau of Health Professions, Health Resources and Services Administration, Parklawn Building, Rm 8C-103, 5600 Fishers Lane, Rockville, MD 20857, Tel: 301-443-2300, E-mail: policyanalysis@hrsa.gov.

SUPPLEMENTARY INFORMATION:

1. PDS Enrollment Availability

The PDS prototype will be available April 30, 2007. An invitation to enroll practitioners in the prototype has been extended first to organizations that assisted HRSA with designing and pricing, which occurred between 2003 and 2005. All NPDB registered entities have been invited to enroll their practitioners to meet a predetermined number for enrollees. Once this number is achieved, enrollment in the prototype will close. It is anticipated that the PDS prototype period will last approximately 18 to 24 months before it is opened to all authorized Data Bank entities.

2. User Fee Amount

The NPDB is authorized by the Health Care Quality Improvement Act of 1986 (the Act), Title IV of Public Law 99-660, as amended (42 U.S.C. 11101 et seq.). Section 427(b)(4) of the Act authorizes the establishment of fees for the costs of processing related to receiving and disclosing information.

Final regulations at 45 CFR part 60 set forth these criteria and procedures for information to be reported to and disclosed by the NPDB. Section 60.3 of these regulations defines the terms used in this announcement.

In determining any changes in the amount of the user fee, the Department uses the criteria set forth in section 60.12(b) of the regulations. The Department must recover the full costs of operating the Data Bank through user fees. Paragraph (b) of the regulations states:

“The amount of each fee will be determined based on the following criteria:

a. Use of electronic data processing equipment to obtain information—the actual cost for the service, including computer search time, runs, printouts, and time of computer programmers and operators, or other employees,

b. Photocopying or other forms of reproduction, such as magnetic tapes—actual cost of the operator's time, plus the cost of the machine time and the materials used,

c. Postage—actual cost, and

d. Sending information by special methods requested by the applicant, such as express mail or electronic transfer—the actual cost of the special service.”

An annual subscription fee of $3.25 per practitioner will be charged upon enrollment. This fee includes the cost of an initial query, which automatically occurs when a practitioner is first enrolled, and all reports received on the enrolled practitioner over the course of the subscription period of 1 year. The fee was determined through economic analysis of the average annual rate of queries performed by health care entities in relationship to the current query fee that is based on the actual cost for services. The Department will accept payment for the subscription fee from entities via credit card or electronic funds transfer. When the prototype period concludes, the Department may change the subscription fee. Any changes will be announced through notice in the Federal Register.

The periodic query fee remains at $4.75 per name. The practitioner self-query fee remains at $8.00. Currently when a periodic query is on one or more physicians, dentists or other health care practitioners, the appropriate fee will be $4.75 multiplied by the number of individuals about whom the information is requested. Similarly, when a PDS prototype participating entity enrolls one or more physicians, dentists or other health care practitioners, the appropriate fee will be $3.25 multiplied by the number of individuals whom are enrolled. An individual practitioner may not enroll in PDS. For examples, see the tables below.

Periodic query method | Fee per name in query | Examples
Entity query (via) internet with electronic payment | $4.75 | 10 names in query. 10 x $4.75 = $47.50.
Practitioner Self-query | 8.00 | One self-query = $8.00.

Proactive disclosure service (PDS) query method | Fee per name enrolled | Examples
Entity query (via) internet with electronic payment | $3.25 | 10 names in query. 10 x $3.25 = $32.50.

Dated: March 1, 2007.
Elizabeth M. Duke,
Administrator.

[FR Doc. E7-3974 Filed 3-6-07; 8:45 am]

BILLING CODE 4165-15-P